DEPARTMENT OF AGRICULTURE

Commodity Credit Corporation

Withdrawal of the Notice of Funds Availability (NOFA) for and the Cancellation of the Farm-to-Fleet Feedstock Program Biofuel Production Incentive (BPI)

AGENCY: Commodity Credit Corporation and Farm Service Agency, USDA.

ACTION: Notice of withdrawal and cancellation.

SUMMARY: The U.S. Department of Agriculture (USDA) Commodity Credit Corporation (CCC) has withdrawn support for the Farm-to-Fleet BPI Program, and is cancelling funding for the BPI payments to companies that are refining biofuel in the United States from certain domestically grown feedstocks converted to drop-in biofuel for delivery to supply biofuels to the Navy. USDA has reassessed how to best use limited available funds and has determined that the BPI is no longer a priority for CCC funding. The impact of this withdrawal is that suppliers of fuel containing a biofuel blend to the U.S. Navy are no longer eligible to receive a CCC incentive payment, through the Farm-to-Fleet BPI Program.

DATES: Effective: February 1, 2018.

FOR FURTHER INFORMATION CONTACT: Kelly Novak, (202) 720-4053.

SUPPLEMENTARY INFORMATION: A notice of funds availability for the Farm-to-Fleet Feedstock BPI was published in the Federal Register on December 29, 2016, (81 FR 95956-95958). The BPI payments were intended to support a joint USDA and U.S. Navy Farm-to-Fleet Program that was announced in December 2013, which provided incentive funds to companies that are refining biofuel in the United States from certain domestically grown feedstocks converted to drop-in biofuel for delivery to supply biofuels to the Navy.

CCC funds, administered by the Farm Service Agency (FSA), were used for BPI payments to help increase the domestic consumption of agricultural commodities in the biofuel market. Up to $50 million of CCC funds was announced as being available through FY 2018. This notice withdraws the availability of BPI payments for deliveries not yet solicited or procured by the U.S. Navy and Defense Logistics Agency (DLA) Energy office and cancels USDA support for biofuel blends solicited by the DLA Energy office and US Navy. Specifically, FSA will continue to make the BPI payments required under the existing commitments. BPI payments will continue to be made to the eligible claimant awarded a contract under DLA Energy's Rocky Mountain West solicitation (SPE600-17-R-0709) and BPI payments will be made on any awards resulting from the Rocky Mountain West and Inland East Gulf solicitations published prior to the publication of this withdrawal. No BPI payments will be made related to any DLA Energy solicitations that are announced after this withdrawal is published.

Steven J. Peterson,
Executive Vice President, Commodity Credit Corporation.

[FR Doc. 2018-02028 Filed 1-31-18; 8:45 am]

BILLING CODE 3410-05-P